DEPARTMENT OF DEFENSE

GENERAL SERVICES ADMINISTRATION

NATIONAL AERONAUTICS AND SPACE ADMINISTRATION

[OMB Control No. 9000-0114; Docket 2012-0076; Sequence 60]

Federal Acquisition Regulation; Submission for OMB Review; Right of First Refusal of Employment

AGENCY: Department of Defense (DOD), General Services Administration (GSA), and National Aeronautics and Space Administration (NASA).

ACTION: Notice of request for public comments regarding an extension to an existing OMB clearance.

SUMMARY: Under the provisions of the Paperwork Reduction Act, the Regulatory Secretariat will be submitting to the Office of Management and Budget (OMB) a request to review and approve an extension of a previously approved information collection. A notice was published in the Federal Register at 78 FR 17670, on March 22, 2013. No comments were received.

DATES: Submit comments on or before July 26, 2013.

ADDRESSES: Submit comments identified by Information Collection 9000-0114, Right of First Refusal of Employment, by any of the following methods:

• Regulations.gov: http://www.regulations.gov. Submit comments via the Federal eRulemaking portal by searching the OMB control number. Select the link “Submit a Comment” that corresponds with “Information Collection 9000-0114, Right of First Refusal of Employment”. Follow the instructions provided at the “Submit a Comment” screen. Please include your name, company name (if any), and “Information Collection 9000-0114, Right of First Refusal of Employment” on your attached document.

• Fax: 202-501-4067.

• Mail: General Services Administration, Regulatory Secretariat (MVCB), 1800 F Street NW., 2nd Floor, Washington, DC 20405-0001. ATTN: Hada Flowers/IC 9000-0114, Right of First Refusal of Employment.

Instructions: Please submit comments only and cite Information Collection 9000-0114, Right of First Refusal of Employment, in all correspondence related to this collection. Submit comments regarding this burden estimate or any other aspect of this collection of information, including suggestions for reducing this burden to: FAR Desk Officer, OMB, Room 10102, NEOB, Washington, DC 20503. All comments received will be posted without change to http://www.regulations.gov, including any personal and/or business confidential information provided.

FOR FURTHER INFORMATION CONTACT: Mr. Michael O. Jackson, Procurement Analyst, Office of Governmentwide Acquisition Policy, GSA, at (202) 208-4949 or via email at michaelo.jackson@gsa.gov.

SUPPLEMENTARY INFORMATION:

A. Purpose

As prescribed in FAR 7.305(c), the clause at FAR 52.207-3, Right of First Refusal of Employment, deals with adversely affected or separated Government employees resulting from the conversion of work from in-house performance to performance by contract. The clause requires the contractor to give these employees an opportunity to work for the contractor who is awarded the contract.

The information gathered will be used by the Government to gain knowledge of which employees, adversely affected or separated as a result of the contract award, have gained employment with the contractor within 90 days after contract performance begins.

B. Annual Reporting Burden

The total annual burden has increased from 912 hours to 30,327 hours. This is based on an analysis of the Federal Procurement Data System—Next Generation (FPDS-NG) which shows that for Fiscal Years 2011 and 2012 there were 9,198 and 11,020, respectively, new A-76 awards. An average of the number of the A-76 awards for these two years equates to 10,109.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Number of Respondents: 10,109.

Responses per Respondent: 1.

Total Responses: 10,109.

Average Burden Hours per Response: 3.

Total Burden Hours: 30,327.

Obtaining Copies of Proposals: Requesters may obtain a copy of the information collection documents from the General Services Administration, Regulatory Secretariat (MVCB), 1800 F Street NW., 2nd Floor, Washington, DC 20405-0001, telephone (202) 501-4755. Please cite OMB Control No. 9000-0114, Right of First Refusal of Employment, in all correspondence.

Dated: June 21, 2013.
William Clark,
Acting Director, Federal Acquisition Policy Division, Office of Governmentwide Acquisition Policy, Office of Acquisition Policy, Office of Governmentwide Policy.

[FR Doc. 2013-15298 Filed 6-25-13; 8:45 am]

BILLING CODE 6820-EP-P